ENVIRONMENTAL PROTECTION AGENCY

[EPA-HQ-OPP-2018-0006; FRL-9981-10]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before September 13, 2018.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Goodis, Registration Division (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.htm l.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

III. Amended Tolerances

1. PP 8E8665. (EPA-HQ-OPP-2018-0162). Interregional Research Project No. 4 (IR-4), IR-4 Project Headquarters, Rutgers, The State University of NJ, 500 College Road East, Suite 201 W, Princeton, NJ 08540, requests to amend 40 CFR 180.566 by removing the established tolerances for residues of fenpyroximate determined by measuring only the sum of fenpyroximate, (E)-1,1-dimethylethyl 4-[[[[(1,3-dimethyl-5-phenoxy-1H-pyrazol-4-yl)methylene]amino]oxy]methyl] benzoate and its Z-isomer, (Z)-1,1-dimethylethyl 4-[[[[(1,3-dimethyl-5-phenoxy-1H-pyrazol-4-yl)methylene]amino]oxy]methyl] benzoate, calculated as the stoichiometric equivalent of fenpyroximate in or on the raw agricultural commodities: Bean, snap, succulent at 0.40 parts per million (ppm); cotton, undelinted seed at 0.10 ppm; cucumber at 0.40 ppm; nut, tree, group 14 at 0.10 ppm; and pistachio at 0.10 ppm. An enforcement method has been developed which involves extraction of fenpyroximate and the M-1 Metabolite from crops with ethyl acetate in the presence of anhydrous sodium sulfate, dilution with methanol, and then analysis by high performance LC/MS/MS. The method has undergone independent laboratory validation as required by PR Notice 88-5 and 96-1. Contact: RD.

2. PP 8F8668. (EPA-HQ-OPP-2018-0207). Bayer CropScience, 2 T.W. Alexander Drive, Research Triangle Park, NC 27709 requests to amend a tolerance in 40 CFR 180 for residues of the herbicide glufosinate-ammonium, in or on the raw agricultural commodities olive at 0.50 ppm; soybean hulls at 10.0 ppm; stone fruit (Crop Group 12-12) at 0.30 ppm; and tree nuts (Crop Group 14-12) at 0.50 ppm. The LC/MS/MS method is used to measure and evaluate the chemical glufosinate-ammonium (ammonium (butanoic acid, 2-amino-4-(hydroxymethylphosphinyl)-monoammonium salt) and its metabolites, 2-acetamido-4-methylphosphinico-butanoic acid and 3-methylphosphinico-propionic acid, expressed as 2-amino-4-(hydroxymethylphosphinyl) butanoic acid equivalents. Contact: RD.

IV. New Tolerance Exemptions for Inerts (Except PIPS)

PP IN-11127. (EPA-HQ-OPP-2018-0289). Spring Trading Company on behalf of Akzo Nobel Surface Chemistry LLC, 525 West Van Buren, Chicago, IL 60607-3823 requests to establish an exemption from the requirement of a tolerance for residues of maltodextrin-vinylpyrrolidone copolymer (CAS Reg. No. 1323833-56-2), when used as an inert ingredient in pesticide formulations under 40 CFR 180.960. The petitioner believes no analytical method is needed because it is not required for an exemption from the requirement of a tolerance.

V. New Tolerances for Non-Inerts

1. EPA Registration Numbers: 59639-97, 59639-193, 59639-206, 59639-207. Docket ID number: EPA-HQ-OPP-2017-0333. Applicant: Valent U.S.A. Corporation. Active ingredient: Flumioxazin. Product type: Herbicide. Proposed use: Grass, forage; grass, hay. Contact: RD.

2. PP 8E8665. (EPA-HQ-OPP-2018-0162). IR-4, IR-4 Project Headquarters, Rutgers, The State University of NJ, 500 College Road East, Suite 201 W, Princeton, NJ 08540, requests to establish tolerances for residues of fenpyroximate determined by measuring only the sum of fenpyroximate, (E)-1,1-dimethylethyl 4-[[[[(1,3-dimethyl-5-phenoxy-1H-pyrazol-4-yl)methylene]amino]oxy]methyl]benzoate and its Z-isomer, (Z)-1,1-dimethylethyl 4-[[[[(1,3-dimethyl-5-phenoxy-1H-pyrazol-4-yl)methylene]amino]oxy]methyl] benzoate, calculated as the stoichiometric equivalent of fenpyroximate in or on the raw agricultural commodities: Banana at 1.0 ppm; blackeyed pea, succulent shelled at 0.40 ppm; broad bean, succulent shelled at 0.40 ppm; bushberry subgroup 13-07B at 3.0 ppm; caneberry subgroup 13-07A at 3.0 ppm; chickpea, succulent shelled at 0.40 ppm; cottonseed subgroup 20C at 0.10 ppm; cowpea, succulent shelled at 0.40 ppm; crowder pea, succulent shelled at 0.40 ppm; goa bean, pods, succulent shelled at 0.40 ppm; lablab bean, succulent shelled at 0.40 ppm; leaf petiole vegetable subgroup 22B at 4.0 ppm; lima bean, succulent shelled at 0.40 ppm; nut, tree, group 14-12 at 0.10 ppm; southern pea, succulent shelled at 0.40 ppm; soybean, edible, succulent shelled at 0.40 ppm; squash/cucumber subgroup 9B at 0.40 ppm; succulent bean, succulent shelled at 0.40 ppm; and velvet bean, succulent shelled at 0.40 ppm. An enforcement method has been developed which involves extraction of fenpyroximate and the M-1 Metabolite from crops with ethyl acetate in the presence of anhydrous sodium sulfate, dilution with methanol, and then analysis by high performance liquid chromatography using tandem mass spectrometric detection (LC/MS/MS). The method has undergone independent laboratory validation as required by PR Notice 88-5 and 96-1. Contact: RD.

3. PP 8E8687. (EPA-HQ-OPP-2018-0424). Mitsui Chemicals Agro, Inc., c/o Landis International, Inc, P.O. Box 5126, Valdosta, GA 31603-5126, requests to establish a tolerance in 40 CFR part 180 for residues of the insecticide, dinotefuran (N-methyl-N′-nitro-N″-[(tetrahydro-3-furanyl)methyl)] guanidine) and metabolites DN (1-methyl-3-(tetrahydro-3-furymethyl)guanidine) and UF (1-methyl-3-(tetrahydro-3-furymethyl)-urea), in or on persimmon at 2 ppm. The High-Performance Liquid Chromatograph-Mass Spectrometer (LC-MS/MS) is used to measure and evaluate the chemical dinotefuran. Contact: RD.

Authority: 21 U.S.C. 346a.

Dated: July 23, 2018.
Delores Barber,
Director, Information Technology and Resources Management Division, Office of Pesticide Programs.

[FR Doc. 2018-17450 Filed 8-13-18; 8:45 am]

BILLING CODE 6560-50-P